MILLENNIUM CHALLENGE CORPORATION

[FR 04-07]

Notice of July 20, 2004 Millennium Challenge Corporation Board of Directors Meeting; Sunshine Act Meeting

AGENCY: Millennium Challenge Corporation.

Time and Date: 10-12 p.m., July 20, 2004.

Place: Department of State, C Street Entrance, Washington, DC 20520.

FOR FURTHER INFORMATION CONTACT: Information on the meeting may be obtained from Adaisha Garrison at (202) 521-3881.

Status: Meeting will be open to the public from 10 a.m. until conclusion of the administrative session; a closed session will commence immediately following the conclusion of the open session, at approximately 10:20 a.m.

Matters to be Considered: The Board of Directors (the “Board”) of the Millennium Challenge Corporation (“MCC”) intends to hold a quarterly meeting of the Board to: Initiate the FY 2005 country selection process by identifying countries that will be candidates for Millennium Challenge Account (“MCA”) assistance in FY 2005 based on the per capita income and other requirements of Section 606(a) of the Millennium Challenge Act of 2003 (Pub. L. 108-199 (Division D)) (the “Act”) and considering the FY 2005 selection criteria and methodology that will be used to determine which of these candidate countries will be eligible for MCA assistance under the requirements of Section 607 of the Act; and discuss and take action on certain administrative and personnel-related matters. The majority of the meeting will be devoted to a discussion of the FY 2005 country selection process, including a discussion of the candidate countries and the selection criteria and methodology, which is likely to involve the discussion of classified information related to U.S. foreign policy and will be closed to the public. Any personnel-related matters would also be conducted during this session. A brief open session relating to certain administrative matters and an update for the Board on MCC operations will precede the closed session.

Due to the quorum requirement in Section 604(c)(6) of the Act, an official meeting of the Board will require the presence of at least one Board member nominated by the President and confirmed by the Senate pursuant to Section 604(c)(3)(B) of the Act. If at least one of these members has not been confirmed by the Senate and formally appointed by the President as of the time of the meeting, the Board will not be in a position to take official Board action and the meeting may be cancelled. In the event of cancellation, MCC will notify the MCA mailing list and post a notice of cancellation on the MCC Web site (www.mcc.gov) at least 24 hours prior to the Board meeting. Interested members of the public may join the MCA mailing list on the MCC Web site at http://www.mcc.gov/contact_maillist.html.

Due to security requirements at the meeting location, all individuals wishing to attend the open portion of the meeting must notify Adaisha Garrison at (202) 521-3881 (garrisonam@mcc.gov) of their intention to attend the meeting by noon on Friday, July 17, 2004, and must comply with all relevant security requirements of the Department of State, including providing the necessary information to obtain any required clearance. Seating for the brief open session will be available on a first come, first served basis.

Dated: July 8, 2004.
Jon A. Dyck,
Vice President and General Counsel, Millennium Challenge Corporation.

[FR Doc. 04-15856 Filed 7-8-04; 2:38 pm]

BILLING CODE 9210-01-P